DEPARTMENT OF HEALTH AND HUMAN SERVICES

National Biodefense Science Board; Notification of a Public Teleconference

AGENCY: Department of Health and Human Services, Office of the Secretary.

ACTION: Notice.

SUMMARY: As stipulated by the Federal Advisory Committee Act, the U.S. Department of Health and Human Services is hereby giving notice that the National Biodefense Science Board (NBSB) will be holding a public teleconference. The meeting is open to the public.

DATES: The NBSB will hold a public teleconference on March 26, 2008. The teleconference will be held from 2 p.m. to 3 p.m. EST.

ADDRESSES: The conference will be conducted by phone.

FOR FURTHER INFORMATION, CONTACT: Any member of the public wishing to obtain general information concerning this public teleconference should contact CAPT Leigh A. Sawyer, D.V.M., M.P.H., Executive Director, National Biodefense Science Board, Office of the Assistant Secretary for Preparedness and Response, U.S. Department of Health and Human Services, 200 Independence Ave, SW., Room 450G, Washington, DC 20201; via telephone/voice mail: 202-205-3815; fax: 202-690-7412; or e-mail at: leigh.sawyer@hhs.gov.

SUPPLEMENTARY INFORMATION: The NBSB was established by section 319M of the Public Health Service Act (42 U.S.C. 247d-7f) as added by section 402 of the Pandemic and All-Hazards Preparedness Act (Pub. L. 109-417) to provide advice to the Secretary of Health and Human Services. The NBSB provides expert advice and guidance to the Secretary on scientific, technical and other matters of special interest to the Department of Health and Human Services regarding current and future chemical, biological, nuclear, and radiological (CBRN) agents, whether naturally occurring, accidental, or deliberate.

Background: The Office of Preparedness and Emergency Operations within the Office of the Assistant Secretary for Preparedness and Response in the U.S. Department of Health and Human Services has asked the NBSB to provide objective, scientifically based advice and recommendations on the proposed Federal Education and Training Interagency Group (FETIG). The function of the proposed FETIG is to serve as the coordinating mechanism for public health and medical disaster preparedness and response core curricula, training, and education across executive departments and agencies. The Disaster Medicine Working Group, formed by the National Biodefense Science Board on December 18, 2007, is in the process of reviewing the proposed FETIG draft Charter.

The purpose of the March 26th teleconference is for the NBSB to consider the assessment of the Disaster Medicine Working Group's review of the proposed FETIG draft charter and to provide recommendations to the Secretary of the U.S. Department of Health and Human Services regarding the proposed FETIG draft charter and the coordination of core curricula, training, and education for public health and medical disaster preparedness. The public teleconference will include a report from the NBSB Disaster Medicine Working Group.

Availability of Materials: The draft agenda and other materials will be posted on the NBSB Web site at http://www.hhs.gov/aspr/omsph/nbsb/index.html prior to the meeting.

Procedures for Providing Public Input: Interested members of the public may submit relevant written or oral information for the NBSB to consider. Oral Statements: In general, individuals or groups requesting an oral presentation at a public NBSB teleconference will be limited to three minutes per speaker, with no more than a total of one hour for all speakers. To be placed on the public speaker list, interested parties should contact CAPT Leigh A. Sawyer, Executive Director, in writing (preferably via e-mail), by March 19, 2008. Written Statements: In general, individuals or groups may file written comments with the committee. All written comments must be received prior to March 19, 2008 and should be sent by e-mail with “NBSB Public Comment” as the subject line or by regular mail to the Contact person listed above. Individuals who wish to participate on the public teleconference and need special assistance should notify the designated contact person by March 19, 2008.

Dated: February 27, 2008.
RADM William C. Vanderwagen,
Assistant Secretary for Preparedness and Response, U.S. Department of Health and Human Services.

[FR Doc. E8-4947 Filed 3-11-08; 8:45 am]

BILLING CODE 4150-37-P